DEPARTMENT OF COMMERCE

International Trade Administration

[A-560-838, A-557-823, A-549-843, A-552-832]

Polyester Textured Yarn From Indonesia, Malaysia, Thailand, and the Socialist Republic of Vietnam: Antidumping Duty Orders

AGENCY: Enforcement and Compliance, International Trade Administration, Department of Commerce.

SUMMARY: Based on affirmative final determinations by the Department of Commerce (Commerce) and the International Trade Commission (ITC), Commerce is issuing the antidumping duty orders on polyester textured yarn from Indonesia, Malaysia, Thailand, and the Socialist Republic of Vietnam (Vietnam).

DATES: Applicable December 14, 2021.

FOR FURTHER INFORMATION CONTACT: Peter Shaw at (202) 482-0697 or Toni Page at (202) 482-1398 (Indonesia); Daniel Alexander at (202) 482-4313 (Malaysia); Stephanie Berger at (202) 482-2483 (Thailand); and Preston Cox at (202) 482-5041 (Vietnam); AD/CVD Operations, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on October 25, 2021, Commerce published its affirmative final determinations in the less-than-fair-value (LTFV) investigations of imports of polyester textured yarn from Indonesia, Malaysia, Thailand, and Vietnam.¹ On December 7, 2021, the ITC notified Commerce of its affirmative final determinations, pursuant to section 735(d) of the Act, that an industry in the United States is materially injured within the meaning of section 735(b)(1)(A)(i) of the Act by reason of the LTFV imports of polyester textured yarn from Indonesia, Malaysia, Thailand, and Vietnam.²

¹ See Polyester Textured Yarn from Indonesia: Final Affirmative Determination of Sales at Less Than Fair Value, 86 FR 58875 (October 25, 2021); Polyester Textured Yarn from Malaysia: Final Affirmative Determination of Sales at Less-Than Fair-Value, 86 FR 58869 (October 25, 2021); Polyester Textured Yarn from Thailand: Final Affirmative Determination of Sales at Less Than Fair Value, 86 FR 58883 (October 25, 2021); and Polyester Textured Yarn from the Socialist Republic of Vietnam: Final Affirmative Determination of Sales at Less Than Fair Value, 86 FR 58877 (October 25, 2021) (Final Determination Vietnam) (collectively, Final Determinations).

² See ITC's Letter, dated December 7, 2021.

Scope of the Orders

The product covered by these orders is polyester textured yarn from Indonesia, Malaysia, Thailand, and Vietnam. For a complete description of the scope of these orders, see the appendix to this notice.

Antidumping Duty Orders

On December 7, 2021, in accordance with section 735(d) of the Act, the ITC notified Commerce of its final determinations in these investigations, in which it found that an industry in the United States is materially injured by reason of LTFV imports of polyester textured yarn from Indonesia, Malaysia, Thailand, and Vietnam.³ Therefore, in accordance with sections 735(c)(2) and 736 of the Act, Commerce is issuing these antidumping duty orders.

³ Id.

Because the ITC determined that imports of polyester textured yarn from Indonesia, Malaysia, Thailand, and Vietnam are materially injuring a U.S. industry, unliquidated entries of subject merchandise from Indonesia, Malaysia, Thailand, and Vietnam, entered into the United States or withdrawn from warehouse for consumption, are subject to the assessment of antidumping duties. Therefore, in accordance with section 736(a)(1) of the Act, Commerce will direct U.S. Customs and Border Protection (CBP) to assess, upon further instructions by Commerce, antidumping duties equal to the amount by which the normal value of the merchandise exceeds the export price (or constructed export price) of the subject merchandise, for all relevant entries of polyester textured yarn from Indonesia, Malaysia, Thailand, and Vietnam. Antidumping duties will be assessed on unliquidated entries of polyester textured yarn from Indonesia, Malaysia, Thailand, or Vietnam entered, or withdrawn from warehouse, for consumption on or after June 3, 2021, the date of publication of the Preliminary Determinations,⁴ but will not include entries occurring after the expiration of the provisional measures period and before publication of the ITC's final injury determinations as further described below.

⁴ See Polyester Textured Yarn from Indonesia: Preliminary Affirmative Determination of Sales at Less Than Fair Value, Postponement of Final Determination, and Extension of Provisional Measures, 86 FR 29742 (June 3, 2021); Polyester Textured Yarn from Malaysia: Preliminary Affirmative Determination of Sales at Less Than Fair Value, Postponement of Final Determination, and Extension of Provisional Measures, 86 FR 29748 (June 3, 2021); Polyester Textured Yarn from Thailand: Preliminary Affirmative Determination of Sales at Less Than Fair Value, Postponement of Final Determination, and Extension of Provisional Measures, 86 FR 29746 (June 3, 2021); Polyester Textured Yarn from the Socialist Republic of Vietnam: Preliminary Affirmative Determination of Sales at Less Than Fair Value, Postponement of Final Determination, and Extension of Provisional Measures, 86 FR 29750 (June 3, 2021) (collectively, Preliminary Determinations).

Continuation of Suspension of Liquidation

In accordance with section 736 of the Act, Commerce will instruct CBP to continue to suspend liquidation of polyester textured yarn from Indonesia, Malaysia, Thailand, and Vietnam as described in the appendix to this notice which are entered, or withdrawn from warehouse, for consumption on or after the date of publication of the ITC's notice of final determinations in the Federal Register. These instructions suspending liquidation will remain in effect until further notice.

Commerce will also instruct CBP to require cash deposits equal to the estimated weighted-average dumping margins indicated in the tables below. Accordingly, effective on the date of publication of the ITC's final affirmative injury determinations, CBP will require, at the same time as importers would normally deposit estimated duties on the subject merchandise, a cash deposit equal to the rates listed below.⁵ For Indonesia, Malaysia, and Thailand, the all-others rate applies to all producers or exporters not specifically listed. For Vietnam, the rate for the Vietnam-wide entity applies to all exporters not specifically listed.

⁵ See section 736(a)(3) of the Act.

Provisional Measures

Section 733(d) of the Act states that instructions issued pursuant to an affirmative preliminary determination may not remain in effect for more than four months, except that Commerce may extend the four-month period to no more than six months at the request of exporters representing a significant proportion of exports of the subject merchandise. At the request of exporters accounting for a significant proportion of polyester textured yarn from Indonesia, Malaysia, Thailand, and Vietnam, Commerce extended the four-month period to six months in this proceeding in each of these investigations.⁶ The extended provisional measures period began on June 3, 2021, and ended on November 29, 2021.

⁶ See Preliminary Determinations.

Therefore, in accordance with section 733(d) of the Act and its practice, Commerce will instruct CBP to terminate the suspension of liquidation and to liquidate, without regard to antidumping duties, unliquidated entries of polyester textured yarn from Indonesia, Malaysia, Thailand, and Vietnam entered or withdrawn from warehouse for consumption after November 29, 2021, the final day on which the provisional measures were in effect, until and through the day preceding the date of publication of the ITC's final affirmative injury determinations in the Federal Register. Suspension of liquidation and collection of cash deposits will resume on the date of publication of the ITC's final determinations in the Federal Register.

Estimated Weighted-Average Dumping Margins

The estimated weighted-average dumping margins are as follows:

Indonesia
Producer or exporter | Estimated weighted- average dumping margin (percent)
PT. Polyfin Canggih | * 26.07
PT. Asia Pacific Fibers Tbk | * 26.07
PT. Mutu Gading Tekstil | 7.47
All Others | 7.47

Malaysia
Producer or exporter | Estimated weighted- average dumping margin (percent)
Recron (Malaysia) Sdn. Bhd | 8.50
All Others | 8.50

Thailand
Producer or exporter | Estimated weighted- average dumping margin (percent)
Sunflag Thailand Ltd | 14.47
Jong Stit Co., Ltd | * 56.80
All Others | 14.47

Vietnam
Exporter | Producer | Estimated weighted- average dumping margin (percent)
Century Single Entity ⁷ | Century Single Entity | 2.58
Vietnam-Wide Entity |  | 22.36
* The rate was assigned based on facts available with adverse inferences.

Establishment of the Annual Inquiry Service Lists

⁷ The Century Single Entity is comprised of Century Synthetic Fiber Corporation and Century Synthetic Fiber Corporation-Branch. See Final Determination Vietnam, 86 FR 58877, n.5.

On September 20, 2021, Commerce published Regulations to Improve Administration and Enforcement of Antidumping and Countervailing Duty Laws, 86 FR 52300 (September 20, 2021) (Final Rule). On September 27, 2021, Commerce also published Scope Ruling Application; Annual Inquiry Service List; and Informational Sessions, 86 FR 53205 (September 27, 2021) (Procedural Guidance). The Final Rule and Procedural Guidance provide that Commerce will maintain an annual inquiry service list for each order or suspended investigation, and any interested party submitting a scope ruling application or a request for circumvention inquiry shall serve a copy of the application or request on the persons on the annual inquiry service list for that order, as well as any companion order covering the same merchandise from the same country of origin.⁸

⁸ See Final Rule, 86 FR 52335-37; and Procedural Guidance.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ⁹

⁹ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹⁰ Accordingly, as stated above, the petitioners and foreign governments should submit their initial entry of appearance after publication of this notice in order to appear in the first annual inquiry service list for those orders for which they qualify as an interested party. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹⁰ See Final Rule, 86 FR 52335.

Notification to Interested Parties

This notice constitutes the antidumping duty orders with respect to polyester textured yarn from Indonesia, Malaysia, Thailand, and Vietnam pursuant to section 736(a) of the Act. Interested parties can find a list of antidumping duty orders currently in effect at http://enforcement.trade.gov/stats/iastats1.html.

These orders are issued and published in accordance with section 736(a) of the Act and 19 CFR 351.211(b).

Dated: December 8, 2021.
Ryan Majerus,
Deputy Assistant Secretary for Policy and Negotiations, performing the non-exclusive functions and duties of the Assistant Secretary for Enforcement and Compliance.

Appendix—Scope of the Orders

The merchandise covered by these orders, polyester textured yarn, is synthetic multifilament yarn that is manufactured from polyester (polyethylene terephthalate). Polyester textured yarn is produced through a texturing process, which imparts special properties to the filaments of the yarn, including stretch, bulk, strength, moisture absorption, insulation, and the appearance of a natural fiber. This scope includes all forms of polyester textured yarn, regardless of surface texture or appearance, yarn density and thickness (as measured in denier), number of filaments, number of plies, finish (luster), cross section, color, dye method, texturing method, or packaging method (such as spindles, tubes, or beams).

The merchandise subject to these orders is properly classified under subheadings 5401.10.0000, 5402.33.3000, and 5402.33.6000 of the Harmonized Tariff Schedule of the United States (HTSUS). Although the HTSUS subheadings are provided for convenience and customs purposes, the written description of the merchandise is dispositive.

[FR Doc. 2021-27003 Filed 12-13-21; 8:45 am]

BILLING CODE 3510-DS-P